DEPARTMENT OF COMMERCE

International Trade Administration

[A-570-890]

Final Determination of Sales at Less Than Fair Value: Wooden Bedroom Furniture From the People's Republic of China

AGENCY: Import Administration, International Trade Administration, Department of Commerce.

ACTION: Notice of final determination of sales at less than fair value.

SUMMARY: On June 24, 2004, the Department of Commerce published its preliminary determination of sales at less than fair value in the antidumping investigation of wooden bedroom furniture from the People's Republic of China. On August 5, 2004, the Department of Commerce published an amended preliminary determination of sales at less than fair value. On September 9, 2004, the Department of Commerce published an amended preliminary determination of sales at less than fair value. The period of investigation is April 1, 2003, through September 30, 2003. The investigation covers seven manufacturers/exporters which are mandatory respondents and 115 Section A respondents. We invited interested parties to comment on our preliminary determination of sales at less than fair value. Based on our analysis of the comments we received, we have made changes to our calculations for all mandatory respondents. The final dumping margins for this investigation are listed in the “Final Determination Margins” section below.

DATES: Effective November 17, 2004.

FOR FURTHER INFORMATION CONTACT: Catherine Bertrand or Robert Bolling, Import Administration, International Trade Administration, U.S. Department of Commerce, 14th Street and Constitution Avenue NW., Washington, DC 20230; telephone: (202) 482-3207 and (202) 482-3434, respectively.

Final Determination

We determine that wooden bedroom furniture from the People's Republic of China (“PRC”) is being, or is likely to be, sold in the United States at Less Than Fair Value (“LTFV”) as provided in section 735 of Tariff Act of 1930 (“the Act”). The estimated margins of sales at LTFV are shown in the “Final Determination Margins” section of this notice.

Case History

The Department of Commerce (“the Department”) published its preliminary determination of sales at LTFV on June 24, 2004. See Notice of Preliminary Determination of Sales at Less Than Fair Value and Postponement of Final Determination: Wooden Bedroom Furniture from the People's Republic of China, 69 FR 35312 (June 24, 2004) (“Preliminary Determination”). The Department conducted verification of the mandatory respondents in both the PRC and the United States (where applicable), with the exception of Tech Lane Wood Mfg. and Kee Jia Wood Mfg. (“Tech Lane”), and certain Section A respondents' data in the PRC. See the Verification Section below for additional information. On August 5, 2004, the Department published an amended preliminary determination. See Notice of Amended Preliminary Antidumping Duty Determination of Sales at Less Than Fair Value: Wooden Bedroom Furniture From the People's Republic of China, 69 FR 47417 (August 5, 2004) (“Amendment 1”). On August 17, 2004, parties submitted surrogate-value information. On August 30, 2004, the Department issued a memorandum regarding the request for treatment of the Chinese wooden bedroom furniture industry as market-oriented. See Memorandum to James J. Jochum from Jeffrey May, Request for Market-Oriented Industry (“MOI”) Treatment, dated August 30, 2004 (“MOI Memorandum”), and MOI section below. On August 31, 2004, the Department released a clarification regarding the scope of this investigation and explained that jewelry armoires and cheval mirrors are not within the scope of the investigation. See Issue and Decision Memorandum Concerning Jewelry Armoires and Cheval Mirrors, dated August 31, 2004. On September 9, 2004, the Department published another amended preliminary determination. See Notice of Amended Preliminary Antidumping Duty Determination of Sales at Less Than Fair Value and Amendment to the Scope: Wooden Bedroom Furniture From the People's Republic of China, 69 FR 54643 (September 9, 2004) (“Amendment 2”). On September 28, 2004, the Department issued a memorandum clarifying which types of mirrors are within the scope of this investigation. See Issue and Decision Memorandum Concerning Mirrors, dated September 28, 2004.

On September 16, 2004, the Department issued a memorandum in which it explained that it rejected the request by Decca Furniture Ltd. for a separate rate because its request for such treatment was untimely. See Memorandum from Jeffrey May to James J. Jochum, Untimely Section A Questionnaire Submission of Decca Furniture Ltd., dated September 16, 2004. Additionally, on September 16, 2004, the Department issued a memorandum which stated that the Department rejected numerous potential Section A respondents' Section A submissions because they were untimely. See Memorandum from James J. Jochum from Jeffrey May, Untimely Request for Separate-Rates Status of Certain PRC Exporters, dated September 16, 2004.

We invited parties to comment on the Preliminary Determination. We received comments from the Petitioners, the mandatory respondents, the Section A respondents, and other interested parties to this investigation.

On October 6, 2004, parties submitted case briefs. On October 14, 2004, parties submitted rebuttal briefs. On October 19, 2004, the Department held a public hearing on MOI and Section A issues. On October 20, 2004, the Department held a public hearing on issues concerning the selection of a surrogate country, financial ratios, surrogate values, and mandatory respondents. On October 27, 2004, the Department held a public hearing on scope comments.

Analysis of Comments Received

All issues raised in the case and rebuttal briefs by parties in this investigation are addressed in the Issues and Decision Memorandum, dated November 8, 2004, which is hereby adopted by this notice (“Decision Memorandum”). A list of the issues which parties raised and to which we respond in the Decision Memorandum is attached to this notice as an Appendix. The Decision Memorandum is a public document and is on file in the Central Records Unit (“CRU”), Main Commerce Building, Room B-099, and is accessible on the Web at http://ia.ita.doc.gov. The paper copy and electronic version of the memorandum are identical in content.

Scope of Investigation

For purposes of this investigation, the product covered is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹ highboys,² lowboys,³ chests of drawers,⁴ chests,⁵ door chests,⁶ chiffoniers,⁷ hutches,⁸ and armoires;⁹ (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the Petition excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate;¹⁰ (9) jewelry armories;¹¹ (10) cheval mirrors ¹² and (11) certain metal parts.¹³

¹⁰ As used herein, bentwood means solid wood made pliable. Bentwood is wood that is brought to a curved shape by bending it while made pliable with moist heat or other agency and then set by cooling or drying. See Customs' Headquarters' Ruling Letter 043859, dated May 17, 1976.

¹¹ Any armoire, cabinet or other accent item for the purpose of storing jewelry, not to exceed 24″ in width, 18″ in depth, and 49″ in height, including a minimum of 5 lined drawers lined with felt or felt-like material, at least one side door lined with felt or felt-like material, with necklace hangers, and a flip-top lid with inset mirror. See Memorandum from Laurel LaCivita to Laurie Parkhill, Office Director, Issues and Decision Memorandum Concerning Jewelry Armoires and Cheval Mirrors in the Antidumping Duty Investigation of Wooden Bedroom Furniture from the People's Republic of China dated August 31, 2004.

¹² Cheval mirrors, i.e., any framed, tiltable mirror with a height in excess of 50″ that is mounted on a floor-standing, hinged base.

¹³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified in subheading 9403.90.7000, HTSUS.

Imports of subject merchandise are classified under statistical category 9403.50.9040 of the HTSUS as “wooden * * * beds” and under statistical category 9403.50.9080 of the HTSUS as “other * * * wooden furniture of a kind used in the bedroom.” In addition, wooden headboards for beds, wooden footboards for beds, wooden side rails for beds, and wooden canopies for beds may also be entered under statistical category 9403.50.9040 of the HTSUS as “parts of wood” and framed glass mirrors may also be entered under statistical category 7009.92.5000 of the HTSUS as “glass mirrors * * * framed.” This investigation covers all wooden bedroom furniture meeting the above description, regardless of tariff classification. Although the HTSUS subheadings are provided for convenience and customs purposes, our written description of the scope of this proceeding is dispositive.

Scope Comments

In the Preliminary Determination we stated that, due to the extraordinary detail and length of comments we had received to date, we would analyze scope comments we received for the final determination. As part of this process, the Department had summarized all of the comments it had received as of June 17, 2004, in a memorandum to the file. See Memorandum to the File from Laurel LaCivita, Analyst, to Laurie Parkhill, Office Director, Antidumping Duty Investigation of Wooden Bedroom Furniture from the People's Republic of China: Summary on Comments to the Scope (June 17, 2004). Thus, we afforded interested parties an opportunity to address only the comments summarized in our memorandum and, as announced in the Preliminary Determination, 69 FR 35318, we provided interested parties until July 30, 2004, to submit additional comments on scope topics in this memorandum.

As of July 30, 2004, we had received scope comments reflecting issues in our memorandum and we had received scope comments on issues not discussed in our memorandum. Therefore, consistent with our Preliminary Determination, we clarified for all interested parties in a letter dated October 25, 2004, that for the final determination we would only address comments we received by July 30, 2004, which concerned issues we identified in our June 17, 2004, memorandum.

We have addressed these comments in our final scope memorandum. See Memorandum to Laurie Parkhill, Office Director, from Erol Yesin, Case Analyst, Antidumping Duty Investigation of Wooden Bedroom Furniture from the People's Republic of China: Summary on the Scope of the Investigation (November 8, 2004).

Verification

As provided in section 782(I) of the Act, we verified the information submitted by the mandatory respondents, with the exception of Tech Lane as discussed below, and certain Section A respondents for use in our final determination. See the Department's verification reports on the record of this investigation in the CRU with respect to Rui Feng Woodwork Co., Ltd., Rui Feng Lumber Development Co., Ltd. and Dorbest Limited (“Dorbest”), Lacquer Craft Mfg. Co., Ltd. (“Lacquer Craft”), Dongguan Lung Dong Furniture Co., Ltd., and Dongguan Dong He Furniture Co., Ltd., (“Lung Dong”), Markor International Furniture (Tianjin) Manufacturing Company, Ltd. (“Markor”), Shing Mark Enterprise Co., Ltd., Carven Industries Limited (BVI), Carven I Industries Limited (HK), Dongguan Zhenxin Furniture Co., Ltd., and Dongguan Yongpeng Furniture Co., Ltd. (“Shing Mark”), Starcorp Furniture (Shanghai) Co., Ltd., Orin Furniture (Shanghai) Co., Ltd., and Shanghai Starcorp Furniture Co., Ltd. (“Starcorp”), Dalian Huafeng Furniture Co., Ltd. (“Dalian”), Locke Furniture Factory, or Kai Chan Furniture Co., Ltd., or Kai Chan (Hong Kong) Enterprise Ltd., or Taiwan Kai Chan Co., Ltd. (“Locke”), and Fine Furniture (Shanghai) Limited (“Fine Furniture”). For all verified companies, we used standard verification procedures, including examination of relevant accounting and production records, as well as original source documents provided by respondents.

Market-Oriented Industry

In the Preliminary Determination, we stated that, because we received an MOI allegation filed by the Furniture Sub-chamber of the China Chamber of Commerce for Import & Export of Light Industrial Products and Arts-Crafts (“CCCLA”) and the China National Furniture Association (“CNFA”) with supporting information so recently and so close (i.e., May 28, 2004) to the fully extended due date of the preliminary determination, we did not have adequate time to consider the information. Thus, we indicated that we would continue to evaluate the request and address it as soon as possible. On August 30, 2004, we issued a memorandum regarding the request by CCCLA and CNFA for an MOI inquiry. See MOI Memorandum. In this memorandum, we stated that, due to the timing of the MOI request filing, we determined that we would not incorporate an MOI inquiry into this antidumping investigation. In addition, we explained that, in the event we publish an antidumping duty order as a result of an affirmative determination by the U.S. International Trade Commission (“ITC”), the Chinese wooden bedroom furniture industry will have an opportunity to request an MOI inquiry in a future segment of this proceeding. See MOI Memorandum and Comment 1 in the Issues and Decision Memorandum.

Surrogate Country

In the Preliminary Determination, we stated that we had selected India as the appropriate surrogate country to use in this investigation for the following reasons: (1) India is at a level of economic development comparable to the PRC; (2) Indian manufacturers produce comparable merchandise and are significant producers of wooden furniture; (3) India provides the best opportunity to use appropriate, publicly available data to value the factors of production. See Preliminary Determination, 69 FR at 35319. We received comments from interested parties during the briefing stage of this investigation and have evaluated these comments. For the final determination we have determined to continue to use India as the surrogate country and, accordingly, we have calculated normal value using Indian prices to value the respondents' factors of production, when available and appropriate. We have obtained and relied upon publicly available information wherever possible. For a detailed description of the surrogate values that have changed as a result of comments the Department has received, see the company-specific Analysis Memoranda dated November 8, 2004.

Separate Rates

In the Preliminary Determination and the amendments to the Preliminary Determination the Department found that several companies which provided responses to Section A of the antidumping questionnaire were eligible for a rate separate from the PRC-wide rate. For the final determination, we have determined that additional companies have qualified for separate-rate status. For a complete listing of all the companies that received a separate rate, see the Final Determination Margins section below.

As discussed below, the Department has determined to apply adverse facts available with respect to Tech Lane. In addition, we have determined that there is no reliable basis for granting Tech Lane a separate rate. Accordingly, Tech Lane has not overcome the presumption that it is part of the PRC-wide entity and therefore, will be subject to the PRC-wide rate.

The margin we calculated in the Preliminary Determination for these companies was 10.92 percent and was changed in Amendment 2 to 12.91 percent. Because the rates of the selected mandatory respondents have changed since the Preliminary Determination and the Amendment 2, we have recalculated the rate for Section A respondents. The rate is 8.64 percent. See Memorandum to the File from Eugene Degnan, Calculation of Section A Rate, dated November 8, 2004.

Additionally, at the Preliminary Determination, we determined preliminarly that Shanghai Aosen Furniture Co., Ltd. (“Shanghai Aosen”), had satisfied our criteria for a separate rate. During the week of July 12, 2004, we informed Shanghai Aosen that we would verify its submitted data on or about August 13, 2004. On August 3, 2004, Shanghai Aosen informed the Department that it had decided not to participate in its verification which was scheduled to take place on August 13, 2004. See Memorandum to the File from Katharine Huang, Shanghai Aosen's Withdrawal from the Antidumping Duty Investigation of Wooden Bedroom Furniture from the People's Republic of China (“PRC”) dated August 3, 2004. Because Shanghai Aosen refused to allow the Department to verify its submissions, the Department has determined that Shanghai Aosen has not cooperated to the best of its ability and that as adverse facts available, we determine that Shanghai Aosen is the part of the PRC-wide entity and therefore, does not qualify for a separate rate. Thus, effective the date of publication in the Federal Register of this determination, Shanghai Aosen will be subject to the PRC-wide rate.

Adverse Facts Available

Section 776(a)(2) of the Act provides that the Department shall apply “facts otherwise available” if, inter alia, an interested party or any other person (A) withholds information that has been requested, (B) fails to provide information within the deadlines established, or in the form or manner requested by the Department, subject to subsections (c)(1) and (e) of section 782, (C) significantly impedes a proceeding, or (D) provides information that cannot be verified as provided by section 782(i) of the Act. Section 776(b) of the Act provides further that the Department may use an adverse inference when a party has failed to cooperate by not acting to the best of its ability to comply with a request for information.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, and is not so incomplete that it cannot be used, and if the interested party acted to the best of its ability in providing the information. Where all of these conditions are met, the statute requires the Department to use the information if it can do so without undue difficulties.

In the Preliminary Determination, we determined a dumping margin of 9.36 percent for Tech Lane based on partial facts available for certain unreported surrogate values. See Preliminary Determination. On June 29, 2004, the Petitioners submitted allegations that the Department made various ministerial errors in calculating the dumping margin for Tech Lane. As a result of our correction of ministerial errors, we determined a corrected margin of 29.72 percent for Tech Lane in Amendment 1. We also stated in Amendment 1 that we would not conduct a verification of Tech Lane due to the fact Tech Lane did not provide financial statements covering reported subject merchandise and because Tech Lane did not submit a reconciliation of sales it made during the period of investigation (“POI”) as we requested. We indicated that, as a result, the rate for Tech Lane might change for purposes of the final determination. See Amendment 1, 69 FR at 47417, footnote 1.

Based on the record evidence and pursuant to the statutory requirements of the Act, the Department has determined that Tech Lane impeded this investigation, provided unverifiable information, and did not cooperate to the best of its ability to comply with the Department's requests for information. Therefore, we find that the use of adverse facts available to determine the margin for Tech Lane is proper for the final determination in this investigation. See Comment 4 in the Issues and Decision Memorandum for a further discussion of this issue.

Partial Adverse Facts Available

We have determined that the use of a partial adverse inference is warranted for certain constructed export price (“CEP”) sales Shing Mark made.

We have determined that Shing Mark did not act to the best of its ability with respect to a CEP control-number error, nor did it act the best of its ability in reporting the sales information with respect to certain CEP sales and the corrected data. At the verification of Shing Mark's U.S. affiliate, Homerica Inc., we discovered that Shing Mark had mis-coded a portion of its reported CEP control numbers. The Department had indicated earlier in its April 28, 2004, supplemental questionnaire and again in its June 4, 2004, supplemental questionnaire that it had found problems with certain reported control numbers and, within these control numbers, price variations of CEP sales that Shing Mark never addressed fully or in a timely manner. At the very least, even if wide price variations are normal within a control number, such price variations should have caused Shing Mark to at least check the accuracy of the information it reported to the Department. Additionally, we find that, at a minimum, before the first CEP verification, Shing Mark should have reviewed our pre-selected sales invoices which would have also alerted Shing Mark to the above problems. Further, the Department alerted the respondent on several different occasions either explicitly (through its supplemental questionnaires) or implicitly (the very reason for the Department's selection of certain CEP sales for verification was due to wide price variations) to the problems with certain sales. Thus, because Shing Mark was in the best position to check and report its own information accurately plus the fact that Shing Mark reported continually that it had corrected its information or that there were no problems, we relied upon its reported information until we discovered the errors at the first CEP verification. Additionally, the Department did everything it could to alert Shing Mark to the problem. Consequently, in accordance with section 776 of the Act, the Department has applied adverse facts available for certain CEP sales whose control numbers Shing Mark reported incorrectly because the U.S. sales data that Shing Mark submitted to correct the errors is unverifiable, the U.S. sales data remains so incomplete that it cannot be used as a reliable basis for reaching an accurate margin in this investigation, and Shing Mark did not act to the best of its ability to find and correct the errors. Therefore, for the aforementioned reasons, the Department has applied the adverse facts available rate of 198.08 percent (see below) to all of Shing Mark's CEP sales where the control-number misclassification occurred. See the Issues and Decision Memorandum at Comment 63 and the Shing Mark Final Analysis Memorandum, dated November 8, 2004.

Adverse Facts-Available Rate

In the Preliminary Determination, in accordance with sections 776(b) and (c) of the Act, to corroborate the adverse facts-available margin (i.e.,198.08 percent), we compared that margin to the margins we found for the mandatory respondents. See Memorandum to the File from Brian Ledgerwood, Analyst, through Robert Bolling, Program Manager, and Laurie Parkhill, Office Director, Preliminary Determination in the Investigation of Wooden Bedroom Furniture from the People's Republic of China, Corroboration Memorandum, dated June 17, 2004.

At the Preliminary Determination, in accordance with section 776(c) of the Act, we corroborated our adverse facts-available margin using information submitted by Tech Lane and Kee Jia Wood Mfg. For the final determination, we are no longer using the information submitted by Tech Lane to corroborate our adverse facts-available margin (see Adverse Facts Available section above).

To assess the probative value of the total adverse facts-available rate it has chosen, the Department compared the final margin calculations of other respondents in this investigation with the rate of 198.08 percent from the petition. We find that the rate is within the range of the highest margins we have determined in this investigation. See Memorandum to the File from Catherine Bertrand, Analyst, through Robert Bolling, Program Manager, and Laurie Parkhill, Office Director, Final Determination in the Investigation of Wooden Bedroom Furniture from the People's Republic of China, Corroboration Memorandum (“Final Corroboration Memo”), dated November 8, 2004. Since the record of this investigation contains margins within the range of the petition margin, we determine that the rate from the petition continues to be relevant for use in this investigation.

As discussed therein, we found that the margin of 198.08 percent has probative value. See Final Corroboration Memo. Accordingly, we find that the rate of 198.08 percent is corroborated within the meaning of section 776(c) of the Act.

The PRC-Wide Rate

Because we begin with the presumption that all companies within a non market-economy (“NME”) country are subject to government control and because only the companies listed under the Final Determination Margins below have overcome that presumption, we are applying a single antidumping rate—the PRC-wide rate—to all other exporters of subject merchandise from the PRC. Such companies did not demonstrate entitlement to a separate rate. See, e.g., Final Determination of Sales at Less Than Fair Value: Synthetic Indigo from the People's Republic of China, 65 FR 25706 (May 3, 2000). The PRC-wide rate applies to all entries of subject merchandise except for entries from the respondents which are listed in the Final Determination Margins section below (except as noted).

Final Determination Margins

We determine that the following percentage weighted-average margins exist for the POI:

Company | Weighted-average margin (percent)
Dongguan Lung Dong Furniture Co., Ltd., or Dongguan Dong He Furniture Co., Ltd | 2.22
Rui Feng Woodwork Co., Ltd., or Rui Feng Lumber Development Co., Ltd. or Dorbest Limited | 16.70
Lacquer Craft Mfg. Co., Ltd | 6.95
Markor International Furniture (Tianjin) Manufacturing Company, Ltd | 0.79
Shing Mark Enterprise Co., Ltd., or Carven Industries Limited (BVI), or Carven I Industries Limited (HK), or Dongguan Zhenxin Furniture Co., Ltd., or Dongguan Yongpeng Furniture Co., Ltd | 5.07
Starcorp Furniture (Shanghai) Co., Ltd., or Orin Furniture (Shanghai) Co., Ltd., or Shanghai Starcorp Furniture Co., Ltd | 15.24
Tech Lane Wood Mfg. or Kee Jia Wood Mfg * | 198.08
Alexandre International Corp., or Southern Art Development Ltd., or Alexandre Furniture (Shenzhen) Co., Ltd., or Southern Art Furniture Factory | 8.64
Art Heritage International, Ltd., or Super Art Furniture Co., Ltd., or Artwork Metal & Plastic Co., Ltd., or Jibson Industries Ltd., or Always Loyal International | 8.64
Billy Wood Industrial (Dong Guan) Co., Ltd., or Great Union Industrial (Dongguan) Co., Ltd., or Time Faith Ltd | 8.64
Changshu HTC Import & Export Co., Ltd | 8.64
Cheng Meng Furniture (PTE) Ltd., or China Cheng Meng Decoration & Furniture Co., Ltd | 8.64
Chuan Fa Furniture Factory | 8.64
Classic Furniture Global Co., Ltd | 8.64
Clearwise Co., Ltd | 8.64
COE Ltd | 8.64
Dalian Guangming Furniture Co., Ltd | 8.64
Dalian Huafeng Furniture Co., Ltd | 8.64
Dongguan Cambridge Furniture Co., or Glory Oceanic Co., Ltd | 8.64
Dongguan Chunsan Wood Products Co., Ltd | 8.64
Dongguan Creation Furniture Co., Ltd., or Creation Industries Co., Ltd | 8.64
Dongguan Grand Style Furniture, or Hong Kong Da Zhi Furniture Co., Ltd | 8.64
Dongguan Great Reputation Furniture Co., Ltd | 8.64
Dongguan Hero Way Woodwork Co., Ltd., or Dongguan Da Zhong Woodwork Co., Ltd., or Hero Way Enterprises Ltd., or Well Earth International Ltd | 8.64
Dongguan Hung Sheng Artware Products Co., Ltd., or Coronal Enterprise Co., Ltd | 8.64
Dongguan Kin Feng Furniture Co., Ltd | 8.64
Dongguan Kingstone Furniture Co., Ltd., or Kingstone Furniture Co., Ltd | 8.64
Dongguan Liaobushangdun Huada Furniture Factory, or Great Rich (HK) Enterprise Co. Ltd | 8.64
Dongguan Qingxi Xinyi Craft Furniture Factory (Joyce Art Factory) | 8.64
Dongguan Singways Furniture Co., Ltd | 8.64
Dongguan Sunrise Furniture Co., or Taicang Sunrise Wood Industry Co., Ltd., or Shanghai Sunrise Furniture Co., Ltd., or Fairmont Designs | 8.64
Dongying Huanghekou Furniture Industry Co., Ltd | 8.64
Dream Rooms Furniture (Shanghai) Co., Ltd | 8.64
Eurosa (Kunshan) Co., Ltd., or Eurosa Furniture Co., (PTE) Ltd | 8.64
Ever Spring Furniture Co. Ltd., or S.Y.C. Family Enterprise Co., Ltd | 8.64
Fine Furniture (Shanghai) Ltd | 8.64
Foshan Guanqiu Furniture Co., Ltd | 8.64
Fujian Lianfu Forestry Co., Ltd., or Fujian Wonder Pacific Inc | 8.64
Gaomi Yatai Wooden Ware Co., Ltd., or Team Prospect International Ltd., or Money Gain International Co | 8.64
Garri Furniture (Dong Guan) Co., Ltd., or Molabile International, Inc., or Weei Geo Enterprise Co., Ltd | 8.64
Green River Wood (Dongguan) Ltd | 8.64
Guangming Group Wumahe Furniture Co., Ltd | 8.64
Hainan Jong Bao Lumber Co., Ltd., or Jibbon Enterprise Co., Ltd | 8.64
Hamilton & Spill Ltd | 8.64
Hang Hai Woodcraft's Art Factory | 8.64
Hualing Furniture (China) Co., Ltd., or Tony House Manufacture (China) Co., Ltd., or Buysell Investments Ltd., or Tony House Industries Co., Ltd | 8.64
Jardine Enterprise, Ltd | 8.64
Jiangmen Kinwai Furniture Decoration Co., Ltd | 8.64
Jiangmen Kinwai International Furniture Co., Ltd | 8.64
Jiangsu Weifu Group Fullhouse Furniture Manufacturing Corp | 8.64
Jiangsu Yuexing Furniture Group Co., Ltd | 8.64
Jiedong Lehouse Furniture Co., Ltd | 8.64
King's Way Furniture Industries Co., Ltd., or Kingsyear Ltd | 8.64
Kuan Lin Furniture (Dong Guan) Co., Ltd., or Kuan Lin Furniture Factory, or Kuan Lin Furniture Co., Ltd | 8.64
Kunshan Lee Wood Product Co., Ltd | 8.64
Kunshan Summit Furniture Co., Ltd | 8.64
Langfang Tiancheng Furniture Co., Ltd | 8.64
Leefu Wood (Dongguan) Co., Ltd., or King Rich International, Ltd | 8.64
Link Silver Ltd. (V.I.B.), or Forward Win Enterprises Co. Ltd., or Dongguan Haoshun Furniture Ltd | 8.64
Locke Furniture Factory, or Kai Chan Furniture Co., Ltd., or Kai Chan (Hong Kong) Enterprise Ltd., or Taiwan Kai Chan Co., Ltd | 8.64
Longrange Furniture Co., Ltd | 8.64
Nanhai Baiyi Woodwork Co., Ltd | 8.64
Nanhai Jiantai Woodwork Co., Ltd | 8.64
Nantong Dongfang Orient Furniture Co., Ltd | 8.64
Nantong Yushi Furniture Co., Ltd | 8.64
Nathan International Ltd., or Nathan Rattan Factory | 8.64
Orient International Holding Shanghai Foreign Trade Co., Ltd | 8.64
Passwell Corporation, or Pleasant Wave Ltd | 8.64
Perfect Line Furniture Co., Ltd | 8.64
Prime Wood International Co., Ltd., or Prime Best International Co., Ltd., or Prime Best Factory, or Liang Huang (Jiaxing) Enterprise Co., Ltd | 8.64
PuTian JingGong Furniture Co., Ltd | 8.64
Qingdao Liangmu Co., Ltd | 8.64
Restonic (Dongguan) Furniture Ltd., or Restonic Far East (Samoa) Ltd | 8.64
RiZhao SanMu Woodworking Co., Ltd | 8.64
Season Furniture Manufacturing Co., or Season Industrial Development Co | 8.64
Sen Yeong International Co., Ltd., or Sheh Hau International Trading Ltd | 8.64
Shanghai Jian Pu Export & Import Co., Ltd | 8.64
Shanghai Maoji Imp and Exp Co., Ltd | 8.64
Sheng Jing Wood Products (Beijing) Co., Ltd., or Telstar Enterprises Ltd | 8.64
Shenyang Shining Dongxing Furniture Co., Ltd | 8.64
Shenzhen Forest Furniture Co., Ltd | 8.64
Shenzhen Jiafa High Grade Furniture Co., Ltd., or Golden Lion International Trading Ltd | 8.64
Shenzhen New Fudu Furniture Co., Ltd | 8.64
Shenzhen Wonderful Furniture Co., Ltd | 8.64
Shenzhen Xiande Furniture Factory | 8.64
Shenzhen Xingli Furniture Co., Ltd | 8.64
Shun Feng Furniture Co., Ltd | 8.64
Songgang Jasonwood Furniture Factory, or Jasonwood Industrial Co., Ltd. S.A | 8.64
Starwood Furniture Manufacturing Co. Ltd | 8.64
Starwood Industries Ltd | 8.64
Strongson Furniture (Shenzhen) Co., Ltd., or Strongson Furniture Co., Ltd., or Strongson (HK) Co | 8.64
Sunforce Furniture (Hui-Yang) Co., Ltd., or Sun Fung Wooden Factory, or Sun Fung Co., or Shin Feng Furniture Co., Ltd., or Stupendous International Co., Ltd | 8.64
Superwood Co., Ltd., or Lianjin Zongyu Art Products Co., Ltd | 8.64
Tarzan Furniture Industries Ltd., or Samso Industries Ltd | 8.64
Teamway Furniture (Dong Guan) Ltd., or Brittomart Inc | 8.64
Techniwood Industries Ltd., or Ningbo Furniture Industries Limited, or Ningbo Hengrun Furniture Co., Ltd | 8.64
Tianjin Fortune Furniture Co., Ltd | 8.64
Tianjin Master Home Furniture | 8.64
Tianjin Phu Shing Woodwork Enterprise Co., Ltd | 8.64
Tianjin Sande Fairwood Furniture Co., Ltd | 8.64
Tube-Smith Enterprise (ZhangZhou) Co., Ltd., or Tube-Smith Enterprise (Haimen) Co., Ltd., or Billonworth Enterprises Ltd | 8.64
Union Friend International Trade Co., Ltd | 8.64
U-Rich Furniture (Zhangzhou) Co., Ltd., or U-Rich Furniture Ltd | 8.64
Wanhengtong Nueevder (Furniture) Manufacture Co., Ltd., or Dongguan Wanengtong Industry Co., Ltd | 8.64
Woodworth Wooden Industries (Dong Guan) Co., Ltd | 8.64
Xiamen Yongquan Sci-Tech Development Co., Ltd | 8.64
Jiangsu XiangSheng Bedtime Furniture Co., Ltd | 8.64
Xingli Arts & Crafts Factory of Yangchun | 8.64
Yangchun Hengli Co. Ltd | 8.64
Yeh Brothers World Trade, Inc | 8.64
Yichun Guangming Furniture Co., Ltd | 8.64
Yida Co., Ltd., or Yitai Worldwide, Ltd., or Yili Co., Ltd., or Yetbuild Co., Ltd | 8.64
Yihua Timber Industry Co., Ltd | 8.64
Zhang Zhou Sanlong Wood Product Co., Ltd | 8.64
Zhangjiagang Zheng Yan Decoration Co., Ltd | 8.64
Zhangjiagang Daye Hotel Furniture Co., Ltd | 8.64
Zhangzhou Guohui Industrial & Trade Co. Ltd | 8.64
Zhanjiang Sunwin Arts & Crafts Co., Ltd | 8.64
Zhong Shan Fullwin Furniture Co., Ltd | 8.64
Zhongshan Fookyik Furniture Co., Ltd | 8.64
Zhongshan Golden King Furniture Industrial Co., Ltd | 8.64
Zhoushan For-Strong Wood Co., Ltd | 8.64
PRC-Wide Rate | 198.08
* Not a separate rate. Tech Lane and Kee Jia Wood Mfg. are subject to the PRC-wide rate.

Continuation of Suspension of Liquidation

Pursuant to 735(c)(1)(B) of the Act, we will instruct U.S. Customs and Border Protection (“CBP”) to continue to suspend liquidation of all entries of subject merchandise from the PRC (except for entries of Markor because this company has a de minimis margin) entered, or withdrawn from warehouse, for consumption on or after June 24, 2004, the date of publication of the Preliminary Determination. In accordance with 19 CFR 351.204(e)(3), the exclusion only applies to merchandise produced and exported by Markor. CBP shall continue to require a cash deposit or the posting of a bond equal to the estimated amount by which the normal value exceeds the U.S. price as shown above. These instructions suspending liquidation will remain in effect until further notice.

Disclosure

We will disclose the calculations performed within five days of the date of publication of this notice to parties in this proceeding in accordance with 19 CFR 351.224(b).

ITC Notification

In accordance with section 735(d) of the Act, we have notified the ITC of our final determination of sales at LTFV. As our final determination is affirmative with the exception of Markor Tianjin, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing the CBP to assess antidumping duties on all imports of the subject merchandise entered, or withdrawn from warehouse, for consumption on or after the effective date of the suspension of liquidation (i.e., June 24, 2004), with the exception of merchandise produced and exported by Markor Tianjin.

Notification Regarding APO

This notice also serves as a reminder to parties subject to administrative protective order (APO) of their responsibility concerning the disposition of proprietary information disclosed under APO in accordance with 19 CFR 351.305. Timely notification of return or destruction of APO materials or conversion to judicial protective order is hereby requested. Failure to comply with the regulations and the terms of an APO is a sanctionable violation.

This determination is issued and published in accordance with sections 735(d) and 777(I)(1) of the Act.

Dated: November 8, 2004.
James J. Jochum,
Assistant Secretary for Import Administration.

Appendix

Issues in the Decision Memorandum

I. General Issues

Comment 1: Market-Oriented Industry

Comment 2: Surrogate-Country Selection

Comment 3: Surrogate Financial Ratios

Comment 4: Tech Lane

Comment 5: Tech Lane Rate/Section A Rate

Comment 6: Treatment of Abrasives

Comment 7: Brokerage and Handling

Comment 8: Treatment of Non-Dumped Sales

Comment 9: Russian Timber Prices

Comment 10: Use of Infodrive and IBIS Data

Comment 11: Sets Reported by Markor and Lacquer Craft

Comment 12: Electricity for Factory Overhead and SG&A

Comment 13: Sigma Freight Rule and Market-Economy Purchases

Comment 14: Furniture Parts

Comment 15: Valuation of NME Self-Made, Semi-Finished, or Subcontracted Parts

II. Surrogate Values

Comment 16: Surrogate Value—General

Comment 17: Purchase Price Information

Comment 18: Exclusion of Aberrational Data

Comment 19: Dorbest

Comment 20: Lung Dong

Comment 21: Markor

Comment 22: Starcorp

Comment 23: Labor Surrogate Value and Calculation of Expected NME Wages

Comment 24: Reliability of Data

Comment 25: Mirror, Glass, Glass Yug

Comment 26: Paint-General

Comment 27: The Asian Paints Price List

Comment 28: Packing Cardboard

Comment 29: Packing Materials (Cardboard)

III. Mandatory Respondents—Company-Specific Issues

A. Dorbest

Comment 30: Commissions

Comment 31: Cheval mirrors

Comment 32: Brokerage and handling

Comment 33: Offset adjustment for by-products

Comment 34: Direct selling expenses

Comment 35: Conversion factors

Comment 36: Contemporaneity of surrogate-value data

Comment 37: Free-of-charge merchandise

Comment 38: Wood inputs

Comment 39: Cardboard and Wood Scrap figures

Comment 40: Diesel Fuel

Comment 41: Packing labor

Comment 42: Factors information for a certain item

B. Lacquer Craft

Comment 43: Rubberwood and Marupa

Comment 44: CEP offset

Comment 45: Negative Allowances

Comment 46: Market Economy Purchases for Paint Inputs

Comment 47: Overhead Expenses

Comment 48: Warehousing Expenses

C. Lung Dong

Comment 49: Surrogate Value for Medium-Density Fiberboard

Comment 50: Minor Corrections from Verification

Comment 51: Clerical-Error Allegations

Comment 52: Exclusion of Potentially Non-Subject Merchandise

Comment 53: Correction of Reported Control Number for Certain Product Codes

Comment 54: Conversion Ratios for Veneer, Polyester Fabric, and Glass

Comment 55: Medium-Density Fiberboard used for Packing

Comment 56: Lung Dong's Market-Economy Purchases of Adhesives and Other Inputs

Comment 57: Weight-Averaging the Factors of Production

D. Markor

Comment 58: Affiliation

E. Shing Mark

Comment 59: Ministerial Errors

Comment 60: U.S. Movement Expense

Comment 61: Market Economy Purchases

Comment 62: Transportation Distances

Comment 63: Control-Number Errors

F. Starcorp

Comment 64: Unreported Sale

Comment 65: Certain Wood Input

Comment 66: Other Metal Fittings

Comment 67: Mirrors

Comment 68: Paint Price

Comment 69: Wooden veneer

Comment 70: Plywood

IV. Section A Issues

Comment 71: Section A Rate-Weighting

Comment 72: Adverse facts available for Section A companies

Comment 73: Locke Furniture

Comment 74: Techniwood's affiliates

Comment 75: Shanghai Ideal and Shanghai Jian Pu

Comment 76: Sunrise's Request for Refund for Cash Deposit Overpayment

Comment 77: Necessity of Submissions

Comment 78: Notification

Comment 79: Independence in Price Negotiation, Valid Business License and Autonomy in Management Selection

Comment 80: Corporate Structure and Affiliations

Comment 81: Independence of Retaining Sales Proceeds

Comment 82: Timeliness

[FR Doc. 04-25507 Filed 11-16-04; 8:45 am]

BILLING CODE 3510-25-P